DEPARTMENT OF TRANSPORTATION

Federal Aviation Administration

[Docket No.: FAA-2023-0546; Summary Notice No. 2023-49]

Petition for Exemption; Summary of Petition Received; Mammoth Freighters, LLC

AGENCY: Federal Aviation Administration (FAA), DOT.

ACTION: Notice of petition for exemption received.

SUMMARY: This notice contains a summary of a petition seeking relief from specified requirements of Federal Aviation Regulations. The purpose of this notice is to improve the public's awareness of, and participation in, the FAA's exemption process. Neither publication of this notice nor the inclusion or omission of information in the summary is intended to affect the legal status of the petition or its final disposition.

DATES: Comments on this notice must identify the petition docket number and must be received on or before January 4, 2024.

ADDRESSES: Send comments identified by docket number FAA-2023-0546 using any of the following methods:

• Federal eRulemaking Portal: Go to http://www.regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at 202-493-2251.

Privacy: Privacy: Except for Confidential Business Information (CBI) as described in the following paragraph, and other information as described in title 14, Code of Federal regulations (14 CFR) 11.35, the FAA will post all comments received without change to https://www.regulations.gov/, including any personal information you provide. The FAA will also post a report summarizing each substantive verbal contact received.

Docket: Background documents or comments received may be read at http://www.regulations.gov at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: Valerie Smith, AIR-646, Federal Aviation Administration, phone 404-474-5380, email valerie.l.smith@faa.gov.

This notice is published pursuant to 14 CFR 11.85.

Issued in Washington, District of Columbia on November 30, 2023.
Daniel J. Commins,
Manager, Integration and Performance Branch.

Petition for Exemption

Docket No.: FAA-2023-0546.

Petitioner: Mammoth Freighters, LLC.

Section(s) of 14 CFR Affected: §§ 25.785(j), 25.812(e), 25.813(b), 25.857(e), 25.1447(c)(1), 25.1449.

Description of Relief Sought: The petitioner is seeking relief from the affected sections of 14 CFR, to support supplemental type certificate approval for the conversion of Boeing Model 777-200LR and 777-300ER series airplanes from an all-passenger configuration to an all-cargo configuration and allow for supernumerary access into the Class E cargo compartment during flight.

[FR Doc. 2023-26705 Filed 12-5-23; 8:45 am]

BILLING CODE 4910-13-P